DEPARTMENT OF HEALTH AND HUMAN SERVICES

Centers for Disease Control and Prevention

[60Day-25-1268; Docket No. CDC-2024-0093]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a continuing information collection, as required by the Paperwork Reduction Act of 1995. This notice invites comment on a proposed information collection project titled Drug Overdose Surveillance and Epidemiology (DOSE). This data collection is designed to facilitate rapid identification and tracking of Emergency Department (ED) data on eight drug overdose indicators.

DATES: CDC must receive written comments on or before January 7, 2025.

ADDRESSES: You may submit comments, identified by Docket No. CDC-2024-0093 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Drug Overdose Surveillance and Epidemiology (DOSE) (OMB Control No. 0920-1268, Exp. 9/30/2025)—Revision—National Center for Injury Prevention and Control (NCIPC), Centers for Disease Control and Prevention (CDC).

Background and Brief Description

In 2022, a total of 107,941 drug overdose deaths occurred, corresponding to an age-adjusted rate of 32.6 per 100,000 population, quadruple from the 2002 rate (8.2). From 2021 to 2022, the synthetic opioid-involved death rate other than methadone increased 4.1%, from 21.8 to 22.7 per 100,000. The psychostimulant-involved age-adjusted death rate increased more than 34 times, from 0.3 in 2002 to 10.4 in 2022, and two states had a significant increase in non-fatal overdoses between 2023 and 2024. In response to the growing severity of the opioid overdose epidemic, the US government declared the opioid overdose epidemic a public health emergency (PHE) on October 26, 2017. The opioid overdose epidemic is one of the U.S. Department of Health and Human Services (HHS) top priorities. In 2021, HHS expanded their Overdose Prevention Strategy to focus on four strategic priorities: primary prevention, harm reduction, evidence-based treatment, and recovery support.

Drug Overdose Surveillance and Epidemiology (DOSE) 2.0 is made possible because the vast majority of the participating health departments are already rapidly collecting extensive data on Emergency Department (ED) visits in their jurisdiction and using these data for the identification of public health concerns including flu and other respiratory illnesses, heat-related illness, and hurricane-related health issues. DOSE 1.0 ensured participating jurisdictions use their data to track suspected overdoses by providing participating jurisdictions standardized definitions of ED visits involving all drug, all opioid, heroin and all stimulant overdoses. To further advance overdose surveillance, for DOSE 2.0, CDC added four additional drug indicators—fentanyl, cocaine, methamphetamine, and benzodiazepine. This facilitates rapid identification and tracking of ED data on a total of eight drug overdose indicators.

Also, no single ED surveillance system has national coverage, but almost all participating health departments use one of three systems—the NSSP BioSense System, local ED syndromic surveillance, or ED/inpatient hospital discharge overdose data files. DOSE 2.0 integrates data across these three types of ED surveillance to quickly build a national surveillance system while leveraging existing ED data collection efforts. DOSE 2.0 can use data across the three types of ED surveillance systems because the key data requirement is the ability to detect change over time (e.g., data consistently collected within the jurisdiction overtime) and not comparability across participating health departments (e.g., same data collection methods deployed across state health departments overtime).

CDC is requesting OMB approval for three years with an annual estimated burden of 655 hours. There is no cost to respondents other than their time to participate.

Estimated Annualized Burden Hours
Type of respondent | Form name | Number of respondents | Responses per respondent | Average burden per response (hours) | Total annual burden (hours)
Participating health departments sharing aggregate data from NSSP BioSense | Rapid ED overdose data form | 45 | 12 | 0.5 | 270
Participating health departments sharing aggregate data from local syndromic data file | Rapid ED overdose data form | 3 | 12 | 3 | 108
Participating health department sharing finalized ED and inpatient hospitalization aggregate data on total ED/inpatient hospitalization visits, and metadata on a yearly basis | ED and hospitalization discharge overdose data form | 32 | 1 | 3 | 96
Participating health department sharing finalized aggregate data on total inpatient hospitalization visits, and metadata on a yearly basis | Inpatient hospitalization discharge overdose data form | 3 | 1 | 2 | 6
Participating health department sharing line-level ED/inpatient hospitalization discharge data (.csv) on drug overdose-related visits (i.e., any visit with an ICD-10-CM code between T36-T50, including all intents, encounters, underdosing, and adverse effects |  | 35 | 1 | 5 | 175
Total |  |  |  |  | 655

Jeffrey M. Zirger,
Lead, Information Collection Review Office, Office of Public Health Ethics and Regulations, Office of Science, Centers for Disease Control and Prevention.

[FR Doc. 2024-25989 Filed 11-7-24; 8:45 am]

BILLING CODE 4163-18-P